DEPARTMENT OF DEFENSE

Department of the Army

Intent To Grant a Field of Use Exclusive License of a U.S. Government-Owned Patent Application

AGENCY: Department of the Army, DoD.

ACTION: Notice.

SUMMARY: In accordance with 35 U.S.C. 209(e), and 37 CFR 404.7(a)(1)(i), announcement is made of the intent to grant a field of use exclusive, revocable license for the field of shigella vaccine development to U.S. Patent Application No. 11/727,486 entitled “Artificial Invaplex,” filed March 27, 2007, and related foreign patent applications (PCT/US2007,007482) to Sanofi Pasteur S.A., with its principal place of business at 2 Avenue du Pont Pasteur, 69007 Lyon, France.

ADDRESSES: Commander, U.S. Army Medical Research and Materiel Command, Attn: Command Judge Advocate, MCMR-JA, 504 Scott Street, Fort Detrick, Frederick, MD 21702-5012.

FOR FURTHER INFORMATION CONTACT: For licensing issues, Dr. Paul Mele, Office of Research and Technology Applications (ORTA), (301) 619-6664. For patent issues, Ms. Elizabeth Arwine, Patent Attorney, (301) 619-7808, both at telefax (301) 619-5034.

SUPPLEMENTARY INFORMATION: Anyone wishing to object to the grant of this license can file written objections along with supporting evidence, if any, within 15 days from the date of this publication. Written objections are to be filed with the Command Judge Advocate (see ADDRESSES).

Brenda S. Bowen,
Army Federal Register Liaison Officer.

[FR Doc. 2010-16887 Filed 7-9-10; 8:45 am]

BILLING CODE 3710-08-P